DEPARTMENT OF TRANSPORTATION

Research and Special Programs Administration

49 CFR Part 192

[Docket No. RSPA-03-16330; Notice 4]

RIN 2137-AB71

Pipeline Safety: Passage of Internal Inspection Devices

AGENCY: Research and Special Programs Administration (RSPA), DOT.

ACTION: Request for information.

SUMMARY: On April 12, 1994, RSPA issued a regulation requiring pipeline operators to design and construct certain new transmission lines and certain existing line sections that contain replaced pipe or components to accommodate the passage of instrumented internal inspection devices. Responding to petitions for reconsideration, we suspended enforcement on some facilities and invited comments on proposed changes to the regulation. To help us reach a final decision on the petitions and issues raised by commenters, this notice seeks responses to the questions stated below under SUPPLEMENTARY INFORMATION concerning offshore gas transmission lines.

DATES: Persons interested in submitting written responses to the questions posed in this document must do so by December 31, 2003.

ADDRESSES: You may submit written responses by mailing or delivering an original and two copies to the Dockets Facility, U.S. Department of Transportation, Room PL-401, 400 Seventh Street, SW., Washington, DC 20590-0001. The Dockets Facility is open from 10 a.m. to 5 p.m., Monday through Friday, except on Federal holidays when the facility is closed. Alternatively, you may submit written responses to the docket electronically at the following Web address: http://dms.dot.gov. All written responses should identify the docket and notice numbers stated in the heading of this notice. Anyone who wants confirmation of mailed responses must include a self-addressed stamped postcard. To file written responses electronically, after logging on to http://dms.dot.gov, click on “Comment/Submissions.” You can also read all responses in the docket at http://dms.dot.gov.

The previous record of this proceeding is in Docket No. PS-126. You can read comments and other material in this docket at the Nassif Building, U.S. Department of Transportation, Room 7128, 400 Seventh Street, SW., Washington, DC 20590-0001. For access to this docket, please call Jenny Donohue at (202) 366-4046.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION CONTACT: L. M. Furrow by phone at 202-366-4559, by fax at 202-366-4566, by mail at U.S. Department of Transportation, 400 Seventh Street SW., Washington, DC 20590, or by e-mail at buck.furrow@rspa.dot.gov.

SUPPLEMENTARY INFORMATION:

Background

Following Congressional mandates,¹ RSPA published regulations (49 CFR 192.150 and 195.120) requiring that, except where impracticable, operators of gas and hazardous liquid pipelines must design and construct certain pipelines to accommodate the passage of instrumented internal inspection devices, or smart pigs (59 FR 17281; Apr. 12, 1994). In response to petitions for reconsideration from the American Gas Association and the Interstate Natural Gas Association of America (INGAA), we proposed to modify provisions of § 192.150 that apply to offshore transmission lines and that require removal of smart pig obstructions from transmission line sections (59 FR 49896; Sept. 30, 1994). In addition, pending completion of the rulemaking, we suspended enforcement of § 192.150 on offshore transmission lines and on onshore transmission line sections except replacement parts (60 FR 7133; Feb. 7, 1995).

¹ Sections 108(b) and 207(b) of the Pipeline Safety Reauthorization Act of 1988 (Pub. L. 100-561; Oct. 31, 1988).

One of the issues raised by INGAA's petition and by comments on the proposed modification of § 192.150 concerns the applicability of § 192.150 to new offshore transmission lines 10 inches or larger. INGAA and industry commenters strongly suggested the rule should exempt all offshore transmission lines. The reasons were increased design and construction costs and lack of benefits. In addition, the Technical Pipeline Safety Standard Committee, RSPA's advisory committee on proposed gas pipeline safety standards, supported industry's view at a meeting in Washington, DC, on May 2, 1995.

In contrast, operators of hazardous liquid pipelines did not object to the similar pig-passage rule in § 195.120 that applies to offshore pipelines 10 inches or larger. And the Marine Board, in a 1994 study jointly sponsored by RSPA and the Minerals Management Service, “Improving the Safety of Marine Pipelines,” recommended that “[n]ew medium-to large-diameter pipelines running from platform to platform or platform to shore should be designed to accommodate smart pigs whenever reasonably practical.” (The study is available at http://books.nap.edu/books/0309050472/ html/.)

Questions

In light of this background and the considerable time since persons submitted written comments on the proposed changes to § 192.150, we have the following questions:

—Do operators of offshore gas transmission lines still object to applying § 192.150 to new offshore transmission lines 10 inches or larger?

—If the answer is yes, given that new hazardous liquid pipelines 10 inches or larger are meeting § 195.120, what differences are there between gas and liquid pipeline design and construction practices that would justify exempting new offshore gas transmission lines 10 inches or larger from § 192.150?

—Regarding the Marine Board's recommendation, when would it not be “reasonably practical” to design new gas transmission lines 10 inches or larger running between platforms or platforms and shore to accommodate the passage of smart pigs?

Issued in Washington, DC, on November 24, 2003.
Stacey L. Gerard,
Associate Administrator for Pipeline Safety.

[FR Doc. 03-29853 Filed 11-28-03; 8:45 am]

BILLING CODE 4910-59-P